DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Community Mental Health Services Block Grant and Substance Abuse Prevention and Treatment Block Grant FY 2020-2021 Plan and Report Guidance and Instructions (OMB No. 0930-0168)—Extension

The Substance Abuse and Mental Health Services Administration (SAMHSA) is requesting approval from the Office of Management and Budget (OMB) for an extension of the 2018-19 Community Mental Health Services Block Grant (MHBG) and Substance Abuse Prevention and Treatment Block Grant (SABG) Plan and Report Guidance and Instructions.

Currently, the SABG and the MHBG differ on a number of their practices (e.g., data collection at individual or aggregate levels) and statutory authorities (e.g., method of calculating MOE, stakeholder input requirements for planning, set asides for specific populations or programs, etc.). Historically, the Centers within SAMHSA that administer these block grants have had different approaches to application requirements and reporting. To compound this variation, states have different structures for accepting, planning, and accounting for the block grants and the prevention set aside within the SABG. As a result, how these dollars are spent and what is known about the services and clients that receive these funds varies by block grant and by state.

SAMHSA has conveyed that block grant funds must be directed toward four purposes: (1) To fund priority treatment and support services for individuals without insurance or who cycle in and out of health insurance coverage; (2) to fund those priority treatment and support services not covered by Medicaid, Medicare or private insurance offered through the exchanges and that demonstrate success in improving outcomes and/or supporting recovery; (3) to fund universal, selective and targeted prevention activities and services; and (4) to collect performance and outcome data to determine the ongoing effectiveness of behavioral health prevention, treatment and recovery support services and to plan the implementation of new services on a nationwide basis.

To help states meet the challenges of 2020 and beyond, and to foster the implementation and management of an integrated physical health, mental health and addiction service system, SAMHSA has established standards and expectations that will lead to an improved system of care for individuals with or at risk of mental and substance use disorders. Therefore, this application package continues to fully exercise SAMHSA's existing authority regarding states', territories' and the Red Lake Band of the Chippewa Tribe's (subsequently referred to as “states”) use of block grant funds as they fully integrate behavioral health services into the broader health care continuum.

Consistent with previous applications, the FY 2020-2021 application has sections that are required and other sections where additional information is requested. The FY 2020-2021 application requires states to submit a face sheet, a table of contents, a behavioral health assessment and plan, reports of expenditures and persons served, an executive summary, and funding agreements and certifications. In addition, SAMHSA is requesting information on key areas that are critical to the states success in addressing health care integration. Therefore, as part of this block grant planning process, SAMHSA is asking states to identify both their promising or effective strategies as well as their technical assistance needs to implement the strategies they identify in their plans for FYs 2020 and 2021.

To facilitate an efficient application process for states, SAMHSA utilized the questions and requests for clarification from representatives from SMHAs and SSAs to inform the proposed changes to the block grants. Based on these discussions with states, SAMHSA is proposing de minimis changes to the block grant program, consisting of updated dates and clarification to instructions.

While the statutory deadlines and block grant award periods remain unchanged, SAMHSA encourages states to turn in their application as early as possible to allow for a full discussion and review by SAMHSA. Applications for the MHBG-only is due no later than September 3, 2019. The application for SABG-only is due no later than October 1, 2019. A single application for MHBG and SABG combined is due no later than September 3, 2019.

Estimates of Annualized Hour Burden

The estimated annualized burden for the uniform application remains unchanged at 33,374 hours. Burden estimates are broken out in the following tables showing burden separately for Year 1 and Year 2. Year 1 includes the estimates of burden for the uniform application and annual reporting. Year 2 includes the estimates of burden for the recordkeeping and annual reporting. The reporting burden remains constant for both years.

Table 1—Estimates of Application and Reporting Burden for Year 1
| Authorizing legislation SABG | Authorizing legislation MHBG | Implementing regulation | Number of respondent | Number of responses per year | Number of hours per response | Total hours
Substance Abuse Prevention and Treatment and Community Mental Health Services Block Grants
Reporting | Standard Form and Content |  |  |  |  |  |
| 42 U.S.C. § 300x-32(a) |  |  |  |  |  |
SABG | Annual Report |  |  |  |  |  | 11,160
| 42 U.S.C. 300x-52(a) |  | 45 CFR 96.122(f) | 60 | 1 |  |
| 42 U.S.C. 300x-30-b |  |  | 5 | 1 |  |
| 42 U.S.C. 300x-30(d)(2) |  | 45 CFR 96.134(d) | 60 | 1 |  |
MHBG | Annual Report |  |  |  |  |  | 10,974
|  | 42 U.S.C. § 300x-6(a) |  | 59 | 1 |  |
|  | 42 U.S.C. 300x-52(a) |  |  |  |  |
|  | 42 U.S.C. 300x-4(b)(3)B |  | 59 | 1 |  |
| State Plan (Covers 2 years) |  |  |  |  |  |
SABG elements | 42 U.S.C. 300x-22(b) |  | 45 CFR 96.124(c)()1) | 60 | 1 |  |
| 42 U.S.C. 300x-23 |  | 45 CFR 96.126(f) | 60 | 1 |  |
| 42 U.S.C. 300x-27 |  | 45 CFR 96.131(f) | 60 | 1 |  |
| 42 U.S.C. 300x-32(b) |  | 45 CFR 96.122(g) | 60 | 1 | 120 | 7,200
MHBG elements |  | 42 U.S.C. 300x-1(b) |  | 59 | 1 | 120 | 7,080
|  | 42 U.S.C. 300x-1(b)(2) |  | 59 | 1 |  |
|  | 42 U.S.C. 300x-2(a) |  | 59 | 1 |  |
| Waivers |  |  |  |  |  | 3,240
| 42 U.S.C. 300x-24(b)(5)(B) |  |  | 20 | 1 |  |
| 42 U.S.C. 300x-28(d) |  | 45 CFR 96.132(d) | 5 | 1 |  |
| 42 U.S.C. 300x-30(c) |  | 45 CFR 96.134(b) | 10 | 1 |  |
| 42 U.S.C. 300x-31(c) |  |  | 1 | 1 |  |
| 42 U.S.C. 300x-32(c) |  |  | 7 | 1 |  |
| 42 U.S.C. 300x-32(e) |  |  | 10 |  |  |
|  | 42 U.S.C. 300x-2(a)(2) |  | 10 |  |  |
|  | 42 U.S.C 300x-4(b)(3) |  | 10 |  |  |
|  | 42 U.S.C 300x-6(b) |  | 7 |  |  |
Recordkeeping | 42 U.S.C. 300x-23 | 42 U.S.C. 300x-3 | 45 CFR 96.126(c) | 60/59 | 1 | 20 | 1,200
| 42 U.S.C. 300x-25 |  | 45 CFR 96.129(a)(13) | 10 | 1 | 20 | 200
| 42 U.S.C 300x-65 |  | 42 CFR Part 54 | 60 | 1 | 20 | 1,200
Combined Burden |  |  |  |  |  |  | 42,254

Report

300x-52(a)—Requirement of Reports and Audits by States—Report

300x-30(b)—Maintenance of Effort Regarding State Expenditures—Exclusion of Certain Funds (SABG)

300x-30(d)(2)—Maintenance of Effort—Noncompliance—Submission of Information to Secretary (SABG)

State Plan—SABG

300x-22(b)—Allocations for Women

300x-23—Intravenous Substance Abuse

300x-27—Priority in Admissions to Treatment

300x-29—Statewide Assessment of Need

300x-32(b)—State Plan

State Plan—MHBG

42 U.S.C. 300x-1(b)—Criteria for Plan

42 U.S.C. 300x-1(b)(2)—State Plan for Comprehensive Community Mental Health Services for Certain Individuals—Criteria for Plan—Mental Health System Data and Epidemiology

42 U.S.C. 300x-2(a)—Certain Agreements—Allocations for Systems Integrated Services for Children

Waivers—SABG

300x-24(b)(5)(B)—Human Immunodeficiency Virus—Requirement regarding Rural Areas

300x-28(d)—Additional Agreements

300x-30(c)—Maintenance of Effort

300x-31(c)—Restrictions on Expenditure of Grant—Waiver Regarding Construction of Facilities

300x-32(c)—Certain Territories

300x-32(e)—Waiver amendment for 1922, 1923, 1924 and 1927

Waivers—MHBG

300x-2(a)(2)—Allocations for Systems Integrated Services for Children

300x-6(b)—Waiver for Certain Territories

Recordkeeping

300x-23—Waiting list

300x-25—Group Homes for Persons in Recovery from Substance Use Disorders

300x-65—Charitable Choice

Table 2—Estimates of Application and Reporting Burden for Year 2
| Number of respondent | Number of responses per year | Number of hours per response | Total hours
Reporting: |  |  |  |
SABG | 60 | 1 | 186 | 11.160
MHBG | 59 | 1 | 186 | 10,974
Recordkeeping | 60/59 | 1 | 40 | 2,360
Combined Burden |  |  |  | 24,494

The total annualized burden for the application and reporting is 33,374 hours (42,254 + 24,494 = 66,748/2 years = 33,374).

Link for the application: http://www.samhsa.gov/grants/block-grants

Send all comments via email to blockgrants@samhsa.hhs.gov. Comments should be received by December 24, 2018.

Summer King,
Statistician.

[FR Doc. 2018-23134 Filed 10-22-18; 8:45 am]

BILLING CODE 4162-20-P